SMALL BUSINESS ADMINISTRATION

[Disaster Declaration #20505 and #20506; TEXAS Disaster Number TX-20021]

Administrative Rural Declaration Amendment of a Disaster for the State of Texas

AGENCY: U.S. Small Business Administration.

ACTION: Amendment 1.

SUMMARY: This is an amendment of the Administrative Rural declaration of disaster for the State of Texas dated August 7, 2024.

DATES: Issued on August 26, 2024.

Physical Loan Application Deadline Date: October 7, 2024.

Economic Injury (EIDL) Loan Application Deadline Date: May 7, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of an Administrative declaration of a rural area for the State of Texas, dated August 7, 2024 is hereby amended to include the following areas as adversely affected by the disaster.

Incident: Severe Storms, Straight-Line Winds, Tornadoes and Flooding.

Incident Period: April 26, 2024 through June 5, 2024.

Primary Counties: Coke, Rockwall

All other information in the original declaration remains unchanged.

(Catalog of Federal Domestic Assistance Number 59008)

Isabella Guzman,
Administrator.

[FR Doc. 2024-19533 Filed 9-12-24; 8:45 am]

BILLING CODE 8026-09-P